COMMISSION ON CIVIL RIGHTS

Sunshine Act Notice

AGENCY: United States Commission on Civil Rights.

ACTION: Notice of meeting.

DATE AND TIME: Monday, July 6, 2009; 11 a.m. EDT.

PLACE: Via Teleconference: Public Dial in—1-800-597-7623, Conference ID #17168618.

Meeting Agenda

This meeting is open to the public.

I. Approval of Agenda.

II. Program Planning.

• National Civil Rights Conference.

III. Adjourn.

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: June 24, 2009.
David Blackwood,
General Counsel.

[FR Doc. E9-15374 Filed 6-24-09; 4:45 pm]

BILLING CODE 6335-01-P